SECURITIES AND EXCHANGE COMMISSION

Sunshine Act Meetings

Notice is hereby given, pursuant to the provisions of the Government in the Sunshine Act, Pub. L. 94-409, that the Securities and Exchange Commission will hold the following meetings during the week of January 8, 2001.

An open meeting will be held on Wednesday, January 10, 2001, at 2:30 p.m. in Room 1C30, the William O. Douglas Room, and a closed meeting will be held on Thursday, January 11, 2001, at 11:00 a.m.

Commissioner Carey, as duty officer, determined that no earlier notice thereof was possible.

The subject matters of the open meeting will be:

(1) The Commission will consider approving a proposed rule change by the National Association of Securities Dealers, Inc. to establish the Nasdaq Order Display Facility and the Order Collector Facility and to modify its primary trading platform, the Nasdaq National Market System, collectively referred to as the SuperMontage proposal.

For further information contact: Jennifer Colihan, Division of Market Regulation at (202) 942-0735.

(2) The Commission will consider proposing new Exchange Act Rule 19b-6, which would replace current Exchange Act Rule 19b-4. Proposed Rule 19b-6 would streamline the self-regulatory organization rule filing process.

For further information contact: Sonia Patton, Division of Market Regulation at (202) 942-0753.

Commissioners, Counsel to the Commissioners, the Secretary to the Commission, and recording secretaries will attend the closed meeting. Certain staff members who have an interest in the matters may also be present.

The General Counsel of the Commission, or his designee, has certified that, in his opinion, one or more of the exemptions set forth in 5 U.S.C. 552(c)(4), (8), (9)(A) and (10) and 17 CFR 200.402(a)(4), (8), (9)(A) and (10), permit consideration of the scheduled matters at the closed meeting.

The subject matters of the closed meeting will be:

Institution and settlement of injunctive actions;

Institution and settlement of administrative proceedings of an enforcement nature; and opinion.

At times, changes in Commission priorities require alterations in the scheduling of meeting items. For further information and to ascertain what, if any, matters have been added, deleted or postponed, please contact:

The Office of the Secretary at (202) 942-7070.

Dated: January 4, 2001.
Jonathan G. Katz,
Secretary.

[FR Doc. 01-614 Filed 1-4-01; 8:45 am]

BILLING CODE 8010-01-M